NATIONAL AERONAUTICS AND SPACE ADMINISTRATION

[Notice 13-027]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: April 2, 2013.

FOR FURTHER INFORMATION CONTACT: Robin W. Edwards, Patent Counsel, Langley Research Center, Mail Stop 30, Hampton, VA 23681-2199; telephone (757) 864-3230; fax (757) 864-9190.

NASA Case No.: LAR-18202-1: Method for Ground-to-Space Laser Calibration System;

NASA Case No.: LAR-18132-1: Modeling of Laser Ablation and Plume Chemistry in a Boron Nitride Nanotube Production Rig;

NASA Case No.: LAR-17681-2: System for Repairing Cracks in Structures.

Sumara M. Thompson-King,
Deputy General Counsel.

[FR Doc. 2013-07610 Filed 4-1-13; 8:45 am]

BILLING CODE 7510-13-P